DEPARTMENT OF TRANSPORTATION

National Highway Traffic Safety Administration

[Docket No. NHTSA-2015-0119]

Public Hearings on Planned Upgrades to the New Car Assessment Program

AGENCY: National Highway Traffic Safety Administration (NHTSA), Department of Transportation (DOT).

ACTION: Notice of public hearings.

SUMMARY: NHTSA is announcing two public hearings to invite public comment on the planned upgrade to the New Car Assessment Program (NCAP) recently announced in a Request for Comments (RFC) Notice.

DATES: NHTSA will hold a public hearing at the Patrick McNamara Federal Building in Detroit, Michigan on January 14, 2016, that will begin at 9:00 a.m. The second hearing will be held at U.S. DOT Headquarters in Washington, DC on January 29, 2016, and will begin at 9:00 a.m. We will make every effort to accommodate all who wish to speak. Priority will be given to those who register in advance. Each hearing will continue until 1:00 p.m. or until everyone has had an opportunity to speak. Note, however, that the Patrick McNamara Federal Building closes at 5:30 p.m. If you would like to present oral testimony related to the RFC notice at one of the public hearings, please contact the person identified under FOR FURTHER INFORMATION CONTACT at least 10 days before the hearing.

ADDRESSES: The January 14, 2016 public hearing will be held at the Patrick McNamara Federal Building, Room 1180, 477 Michigan Avenue, Detroit, MI 48226-2523. The January 29, 2016 public hearing will be held at the U.S. DOT Headquarters Building, Oklahoma City Room, 1200 New Jersey Avenue SE., Washington, DC 20590.

FOR FURTHER INFORMATION CONTACT: If you would like to present oral testimony at either of these public hearings, please contact Milton Cooper by the date specified under DATES at telephone number: (202) 366-3223; or email address: milton.cooper@dot.gov (preferred method of contact). Please provide the following information: Name, affiliation, telephone number, email address, and any reasonable accommodations you may need.

SUPPLEMENTARY INFORMATION: The purpose of the public hearings is to provide the public with an opportunity to present oral comments regarding the planned upgrade to NHTSA's New Car Assessment Program. NCAP provides comparative information on the safety of new vehicles to assist consumers with vehicle purchasing decisions and to encourage motor vehicle manufacturers to make vehicle safety improvements. To keep pace with advancements in occupant protection and the introduction of advanced technologies, NHTSA has periodically updated the program. On December 16, 2015, NHTSA published in the Federal Register a notice that describes and seeks comments on NHTSA's plan to advance the capabilities and safety outcomes of NCAP.¹

¹ 80 FR 78522; December 16, 2015.

The RFC notice announces the beginning of a process NHTSA believes will provide the agency with significantly enhanced tools and techniques for better evaluating the safety of vehicles, generating star ratings, and stimulating the development of even safer vehicles for American consumers. The agency believes the revised rating system will result in even lower numbers of deaths and injuries resulting from motor vehicle crashes. These tools and techniques include:

• A new frontal oblique test to address a crash type that continues to result in deaths and serious injuries despite the use of seat belts, air bags, and the crashworthy structures of late-model vehicles;

• Use of the THOR 50th percentile male anthropomorphic test device (ATD) (i.e., crash test dummy) in the frontal oblique and full frontal tests because of its advanced instrumentation and more human-like (i.e., biofidelic) response to the forces experienced in these crashes;

• Use of the WorldSID 50th percentile male ATD in both side pole and side moveable deformable barrier tests because of its advanced instrumentation and enhanced biofidelic properties;

• Pedestrian crashworthiness testing to measure the extent to which vehicles are designed to minimize injuries and fatalities when they strike pedestrians;

• An update of the rollover static stability factor risk curve using crash data from only newer electronic stability control equipped vehicles;

• The addition of a crash avoidance rating based on whether a vehicle offers any of the multiple technologies that will be added to NCAP and whether the technologies meet NHTSA performance measures;

○ These technologies would include forward collision warning, lane departure warning, blind spot detection, lower beam headlighting technologies, semi-automatic headlamp beam switching, amber rear turn signal lamps, rear automatic braking and pedestrian automatic emergency braking. (A decision concerning the addition of crash imminent braking and dynamic brake support to the technologies recommended by NCAP is the subject of a separate proceeding recently published.²)

² See www.regulations.gov, Docket No. NHTSA-2015-0006-0024.

• A new approach to determining a vehicle's overall 5-star rating that will, for the first time, incorporate advanced crash avoidance technology features, along with ratings for crashworthiness and pedestrian protection.

You can learn more about the planned upgrade by reviewing the RFC notice and the supplementary documents located at http://www.safercar.gov/5Stars or in the docket.

Should it be necessary for the agency to cancel either public hearing due to inclement weather or any other emergencies, a decision to cancel will be made as soon as possible and emailed to those individuals who have registered to provide oral comments. If you do not have access to email, you may call the contacts listed in this announcement and leave your telephone number and/or email address. You will be contacted only if the public hearing is postponed or canceled.

Public Hearing Procedures. Because the hearings will be located in Federal facilities, security screening will be required. Attendees will need to show photo identification and be screened for security purposes. Please plan your arrival so as to allow sufficient time to complete the screening. Please note that the Patrick McNamara Federal Building does not open until 8:00 a.m.

NHTSA will conduct the hearings informally. Thus, technical rules of evidence will not apply. Panel members may ask clarifying questions during the oral presentations, but will not respond to the presentations at that time. You may make arrangements to obtain copies of the transcripts directly with the court reporter. Written statements and supporting information submitted during the comment period on the RFC notice will be considered with the same weight as oral comments and supporting information presented at the public hearings. The RFC notice provides that written comments should be submitted no later than February 16, 2016.

Raymond R. Posten,
Associate Administrator for Rulemaking.

[FR Doc. 2015-32184 Filed 12-22-15; 8:45 am]

BILLING CODE 4910-59-P